FEDERAL COMMUNICATIONS COMMISSION

47 CFR Part 64

[CG Docket No. 02-278, DA 03-2994, FCC 03-153]

Rules and Regulations Implementing the Telephone Consumer Protection Act (TCPA) of 1991

AGENCY: Federal Communications Commission.

ACTION: Final rule; announcement of effective date.

SUMMARY: In this document, the Commission announces that the Office of Management and Budget (OMB) has approved for three years the information collections contained in the Commission's telemarketing rules at §§ 64.1200(d)(1), (d)(3), (d)(6), (f)(3) and (g)(1). Sections 64.1200(a)(5), (a)(6) and (c)(2) are already to be effective October 1, 2003 per dates published at 68 FR 44144, July 25, 2003. OMB is continuing its review of the information collections associated with the fax advertising rules.

DATES: 47 CFR 64.1200(d)(1), (d)(3), (d)(6), (f)(3) and (g)(1) published at 68 FR 44144, July 25, 2003, are effective October 1, 2003.

ADDRESSES: Federal Communications Commission, 445 12th Street, SW., Washington, DC 20554.

FOR FURTHER INFORMATION CONTACT: Erica H. McMahon or Richard D. Smith at 202-418-2512, Consumer & Governmental Affairs Bureau.

SUPPLEMENTARY INFORMATION: This is a summary of the Commission's Public Notice, DA 03-2994, released on September 29, 2003, announcing OMB approval for three years of the information collections contained in §§ 64.1200(d)(1), (d)(3), (d)(6), (f)(3) and (g)(1) of the Commission's rules implementing the Telephone Consumer Protection Act (TCPA) of 1991. The information collections were approved by OMB on September 29, 2003. OMB Control No. 3060-0519. The Commission publishes this notice of the effective date of the rules. As noted in the Commission's Report and Order, 68 FR 44144, July 25, 2003, the national do-not-call rules at § 64.1200 (c)(2) and the call abandonment rules at § 64.1200 (a)(5) and (a)(6) become effective on October 1, 2003 and the caller ID rules at § 64.1601(e) go into effect on January 29, 2004. If you have any comments on these burden estimates, or how we can improve the collection(s) and reduce the burden(s) they cause you, please write to Les Smith, Federal Communications Commission, Room 1-A804, 445 12th Street, SW., Washington, DC 20554. Please include the OMB Control Number, 3060-0519, in your correspondence. We will also accept your comments regarding the Paperwork Reduction Act aspects of the collections via the Internet, if you send them to Leslie.Smith@fcc.gov or call (202) 418-0217.

Synopsis

As required by the Paperwork Reduction Act of 1995 (44 U.S.C. 3507), the FCC is notifying the public that it received approval for three years from OMB on September 29, 2003 for the collection(s) of information contained the Commission's telemarketing rules at 47 CFR 64.1200. OMB is continuing its review of the information collections associated with the fax advertising rules.

The OMB Control Number is 3060-0519. The annual reporting burden for this collection(s) of information, including the time for gathering and maintaining the collection of information, is estimated to be: 30,000 respondents, an average of 60 hours per response per annum, for a total annual hour burden of 1,728,600, and $855,000 in total annual costs.

Under 5 CFR 1320, an agency may not conduct or sponsor a collection of information unless it displays a current valid OMB Control Number. No person shall be subject to any penalty for failing to comply with a collection of information subject to the Paperwork Reduction Act (PRA) that does not display a valid OMB Control Number. The OMB Control Number is 3060-0519.

The foregoing notice is required by the Paperwork Reduction Act of 1995, Public Law 104-13, October 1, 1995, 44 U.S.C. 3507.

Federal Communications Commission.
Marlene H. Dortch,
Secretary.

[FR Doc. 03-25064 Filed 9-30-03; 8:45 am]

BILLING CODE 6712-01-P